DEPARTMENT OF COMMERCE

International Trade Administration

[A-580-880; A-201-847; A-489-824; C-489-825]

Heavy Walled Rectangular Welded Carbon Steel Pipes and Tubes From the Republic of Korea, Mexico, and the Republic of Turkey: Continuation of the Antidumping Duty Orders and Countervailing Duty Order

AGENCY: Enforcement and Compliance, International Trade Administration, Department of Commerce.

SUMMARY: As a result of the determinations by the Department of Commerce (Commerce) and the International Trade Commission (ITC) in their five-year (sunset) reviews that revocation of the antidumping duty (AD) orders on heavy walled rectangular welded carbon steel pipes and tubes (HWR pipes and tubes) from the Republic of Korea (Korea), Mexico, and the Republic of Turkey (Turkey) and the countervailing duty (CVD) order on HWR pipes and tubes from Turkey would likely lead to a continuation or recurrence of dumping and net countervailable subsidies, and material injury to an industry in the United States, Commerce is publishing a notice of continuation of the AD orders on HWR pipes and tubes from Korea, Mexico, and Turkey, and the CVD order on HWR pipes and tubes from Turkey.

DATES: Applicable April 1, 2022.

FOR FURTHER INFORMATION CONTACT: Samantha Kinney or Katherine Johnson (AD), and Jaron Moore (CVD), AD/CVD Operations, Office VIII, Enforcement and Compliance, International Trade Administration, U.S. Department of Commerce, 1401 Constitution Avenue NW, Washington, DC 20230; telephone: (202) 482-2285, (202) 482-4929, or (202) 482-3640, respectively.

SUPPLEMENTARY INFORMATION:

Background

On September 13, 2016, Commerce published in the Federal Register the AD orders on HWR pipes and tubes from Korea, Mexico, and Turkey, and the CVD order on HWR pipes and tubes from Turkey.¹ On August 2, 2021, the ITC instituted ² and Commerce initiated ³ the first five-year (sunset) reviews of the AD Orders, and the CVD Order, pursuant to sections 751(c) and 752 of the Tariff Act of 1930, as amended (the Act). As a result of its reviews, Commerce determined that revocation of the AD Orders would likely lead to a continuation or recurrence of dumping, and that revocation of the CVD Order would be likely to lead to the continuation or recurrence of countervailable subsidies.⁴ Therefore, Commerce notified the ITC of the magnitude of the margins of dumping and level of countervailable subsidy rates likely to prevail were the orders to be revoked.⁵

¹ See Heavy Walled Rectangular Welded Carbon Steel Pipes and Tubes from the Republic of Korea, Mexico, and the Republic of Turkey: Antidumping Duty Orders, 81 FR 62865 (September 13, 2016) (AD Orders); and Heavy Walled Rectangular Welded Carbon Steel Pipes and Tubes from the Republic of Turkey: Amended Final Affirmative Countervailing Duty Determination and Countervailing Duty Order, 81 FR 62874 (September 13, 2016) (CVD Order) (collectively, Orders).

² See Heavy Walled Rectangular Welded Carbon Steel Pipes and Tubes from Korea, Mexico, and Turkey; Institution of Five-Year Reviews, 86 FR 41511 (August 2, 2021).

³ See Initiation of Five-Year (Sunset) Reviews, 86 FR 41439 (August 2, 2021).

⁴ See Heavy Walled Rectangular Welded Carbon Steel Pipes and Tubes from the Republic of Korea, Mexico, and the Republic of Turkey: Final Results of the Expedited First Sunset Reviews of Antidumping Duty Orders, 86 FR 67913 (November 30, 2021); and Heavy Walled Rectangular Welded Carbon Steel Pipes and Tubes from the Republic of Turkey: Final Results of the Expedited First Sunset Review of the Countervailing Duty Order, 86 FR 69011 (December 6, 2021).

⁵ Id.

On March 23, 2022, the ITC published its determination, pursuant to sections 751(c) and 752(a) of the Act, that revocation of the AD Orders, and the CVD Order, would likely lead to a continuation or recurrence of material injury to an industry in the United States within a reasonably foreseeable time.⁶

⁶ See Heavy Walled Rectangular Welded Carbon Steel Pipes and Tubes from Korea, Mexico, and Turkey, 87 FR 16495 (March 23, 2022).

Scope of the Orders ⁷

⁷ See Orders.

The merchandise covered by the Orders is certain heavy walled rectangular welded steel pipes and tubes of rectangular (including square) cross section, having a nominal wall thickness of not less than 4 mm. The merchandise includes, but is not limited to, the American Society for Testing and Materials (ASTM) A-500, grade B specifications, or comparable domestic or foreign specifications.

Included products are those in which: (1) Iron predominates, by weight, over each of the other contained elements; (2) the carbon content is 2 percent or less, by weight; and (3) none of the elements below exceeds the quantity, by weight, respectively indicated:

• 2.50 percent of manganese, or

• 3.30 percent of silicon, or

• 1.50 percent of copper, or

• 1.50 percent of aluminum, or

• 1.25 percent of chromium, or

• 0.30 percent of cobalt, or

• 0.40 percent of lead, or

• 2.0 percent of nickel, or

• 0.30 percent of tungsten, or

• 0.80 percent of molybdenum, or

• 0.10 percent of niobium (also called columbium), or

• 0.30 percent of vanadium, or

• 0.30 percent of zirconium.

The subject merchandise is currently provided for in item 7306.61.1000 of the Harmonized Tariff Schedule of the United States (HTSUS). Subject merchandise may also enter under HTSUS 7306.61.3000. While the HTSUS subheadings and ASTM specification are provided for convenience and customs purposes, the written description of the scope of these Orders is dispositive.

Continuation of the Orders

As a result of the determinations by Commerce and the ITC that revocation of the AD Orders and the CVD Order would likely lead to a continuation or recurrence of dumping, net countervailable subsidies, and material injury to an industry in the United States, pursuant to section 751(d)(2) of the Act and 19 CFR 351.218(a), Commerce hereby orders the continuation of the Orders. U.S. Customs and Border Protection will continue to collect AD and CVD cash deposits at the rates in effect at the time of entry for all imports of subject merchandise. The effective date of the continuation of the Orders will be the date of publication in the Federal Register of this notice of continuation. Pursuant to section 751(c)(2) of the Act and 19 CFR 351.218(c)(2), Commerce intends to initiate the next five-year reviews of these Orders not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

Notification to Interested Parties

These five-year (sunset) reviews and notice are in accordance with sections 751(c) and (d)(2), and 777(i) the Act, and 19 CFR 351.218(f)(4).

Dated: March 28, 2022.
Lisa W. Wang,
Assistant Secretary for Enforcement and Compliance.

[FR Doc. 2022-06929 Filed 3-31-22; 8:45 am]

BILLING CODE 3510-DS-P